DEPARTMENT OF DEFENSE

Office of the Secretary of Defense

Renewal of Department of Defense Federal Advisory Committees

AGENCY: Department of Defense.

ACTION: Name Change and Renewal of Federal Advisory Committee.

SUMMARY: Under the provisions of the Federal Advisory Committee Act of 1972, (5 U.S.C. Appendix, as amended), the Sunshine in the Government Act of 1976 (5 U.S.C. 552b, as amended), and 41 CFR § 102-3.65, the Department of Defense gives notice that the name of the Ocean Research Advisory Panel is being changed to the Ocean Research and Resources Advisory Panel (hereafter referred to as the Panel), and that the Panel's charter is being renewed.

The Panel is a non-discretionary federal advisory committee established by 10 U.S.C. 7903 to provide independent scientific advice and recommendations to the National Ocean research Leadership Council (hereafter referred to as the Council). Pursuant to 10 U.S.C. 7903(b), the Council shall assign the following responsibilities to the Panel:

1. To advise the Council on policies and procedures to implement the National Oceanographic Partnership Program.

2. To advise the Council on selection of partnership projects and allocation of funds for partnership projects for implementation under the program.

3. To advise the Council on matters relating to national oceanographic data requirements.

4. Any additional responsibilities that the Council considers appropriate. As directed by 10 U.S.C. 7903(a), the Panel shall be composed of not less than 10 and not more than 18 members representing the National Academy of Sciences, the National Academy of Engineering, the Institute of Medicine, ocean industries, State Governments, academia and others including individuals who are eminent in the fields of marine science, marine policy or related fields including ocean resource management. Panel Members appointed by the Secretary of Defense or designated representative, who are not full-time federal officers or employees, shall serve as Special Government Employees under the authority of 5 U.S.C. 3109.

Panel Members, under the provisions of 10 U.S.C. 7903, shall be appointed on an annual basis by the Secretary of Defense or designated representative, and shall serve no more than four years. The Panel Membership shall select the Chairperson and Vice-Chairpersons of the Panel for renewable one-year terms. In addition, the Secretary of Defense or designated representative may invite other distinguished Government officers to serve as non-voting observers of the Panel, and appoint consultants, with special expertise, to assist the Panel on an ad hoc basis.

The Panel shall be authorized to establish subcommittees, as necessary and consistent with its mission, and these subcommittees or working groups shall operate under the provisions of the Federal Advisory Committee Act of 1972, the Sunshine in the Government Act of 1976, and other appropriate federal regulations.

Such subcommittees or workgroups shall not work independently of the chartered Panel, and shall report all their recommendations and advice to the Panel for full deliberation and discussion. Subcommittees or workgroups have no authority to make decisions on behalf of the chartered Panel nor can they report directly to the Department of Defense or any federal officers or employees who are not Panel Members.

SUPPLEMENTARY INFORMATION: The Panel shall meet at the call of the Panel's Designated Federal Officer, in consultation with the Panel's chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Ocean Research and Resources Advisory Panel membership about the Panel's mission and functions. Written statements may be submitted at any time or in response to the stated agenda of planned meeting of the Ocean Research and Resources Advisory Panel.

All written statements shall be submitted to the Designated Federal Officer for the Ocean Research and Resources Advisory Panel, and this individual will ensure that the written statements are provided to the membership for their consideration. Contact information for the Ocean Research and Resources Advisory Panel's Designated Federal Officer can be obtained from the GSA's FACA Database— https://www.fido.gov/facadatabase/public.asp.

The Designated Federal Officer, pursuant to 41 CFR 102-3.150, will announce planned meetings of the Ocean Research and Resources Advisory Panel. The Designated Federal Officer, at that time, may provide additional guidance on the submission of written statements that are in response to the stated agenda for the planned meeting in question.

FOR FURTHER INFORMATION CONTACT: Jim Freeman, Deputy Committee Management Officer for the Department of Defense, 703-601-2554, extension 128.

Dated: January 15, 2008.
C.R. Choate,
Alternate OSD Federal Register Liaison Officer, Department of Defense.

[FR Doc. E8-986 Filed 1-18-08; 8:45 am]

BILLING CODE 5001-06-P